DEPARTMENT OF COMMERCE

Census Bureau

Submission for OMB Review; Comment Request

The Department of Commerce will submit to the Office of Management and Budget (OMB) for clearance the following proposal for collection of information under the provisions of the Paperwork Reduction Act.

Agency: U.S. Census Bureau.

Title: 2020 Census—Evaluations and Experiments

The initial Federal Register Notice “2020 Census” (June 8, 2018, Vol. 83, Number 111, pp. 26643-26653, FR Doc No.: 2018-12365) described the 2020 Census in full. Approval for the 2020 Census is being sought from OMB in phases. The first phase of approval was for the 2020 Census Address Canvassing operation only, which was described in Federal Register Notice “2020 Census,” October 2, 2018 (Vol. 83, No. 191, pp. 49535-49539, FR Doc No.: 2018-21386). Address Canvassing creates the address list for the census and precedes census enumeration data collection. The remaining enumeration operations scoped for the 2020 Census data collection were described in Federal Register Notice “2020 Census,” February 13, 2019 (Vol. 84, No. 30, pp 3746-3757, FR Doc. No.: 2019-02223), which had an additional 30-day comment period. The Evaluations and Experiments description will be considered as an additional revision to the approved OMB materials. In addition, the Group Quarters and Enumeration at Transitory Locations operation descriptions will be updated in this Notice. Previous Notices have not described fully some of the stages of these operations. In addition, there have been some changes to stages that were previously described.

In addition, there has been an overall change to the 2020 Census program since the prior Notice publication. This change will be described in this Notice for the purposes of providing the most current details about the 2020 Census program. In particular, the program change is related to the determination of enumeration methodology by geographic area, or the Type of Enumeration Area (TEA) delineation.

OMB Control Number: 0607-1006.

Form Number(s): D-Q1, D-Q1(E/S), D-Q-XG(E/S).

Type of Request: Revision of a currently approved collection.

Number of Respondents: 193,426,318 to 2020 Census.

Average Hours Per Response: 10 minutes for census enumeration.

Burden Hours: 28,984,001 for 2020 Census.

This burden is higher than shown in prior Notices for multiple reasons. Additional phases for group quarters and transitory locations collections have been added; the total estimated number of housing units has been adjusted upward as a result of geographic file and TEA updates; a supplemental file delivery of new addresses to the census universe has now been accounted for within the Nonresponse Followup workload estimate.

The TEAs are described further in Needs and Uses. In the final TEA delineation, some housing units have been moved between TEAs. In particular, the Update Leave and Update Enumerate areas have decreased while the self-response area has increased.

An adjustment to the predicted response rate is represented with a change between the percents attributed to self-response versus Nonresponse Followup. The predicted response rate within the self-response area is 61.5 percent and within the Update Leave area is 51 percent. The total burden is unchanged by these shifts.

Where the evaluations and experiments collect census data using different techniques or questionnaires, the burden shows a separate line for this collection. The total burden is unchanged by this breakout.

2020 Census
Operation or category | Estimated number of respondents | Estimated time per response (in minutes) | Total burden hours
Address Canvassing | 15,786,734 | 5 | 1,315,561
Address Canvassing Listing Quality Control | 1,578,673 | 5 | 131,556
Address Canvassing Subtotal | 17,365,407 |  | 1,447,117
Geographic Areas Focused on Self-Response (this includes Mailout and Update Leave)
Internet/Telephone/Paper | 87,774,467 | 10 | 14,629,078
Optimization of Self-Response Experiment | 118,541 | 10 | 19,757
Extending the Decennial Census Environment to the Mailing Materials | 172,992 | 10 | 28,832
Update Leave | 6,600,000 | 5 | 550,000
Update Leave Quality Control | 660,000 | 5 | 55,000
Nonresponse Followup | 62,934,000 | 10 | 10,489,000
Nonresponse Followup Reinterview | 3,146,700 | 5 | 262,225
Self-Response Quality Assurance | 250,000 | 10 | 41,667
Field Verification | 400,000 | 2 | 13,333
Field Verification Quality Control | 40,000 | 2 | 1,333
Coverage Improvement | 3,200,000 | 7 | 373,333
Non-ID Processing Phone Followup | 750,000 | 5 | 62,500
Self-Response Areas Subtotal | 166,046,700 |  | 26,526,058
Geographic Area Focused on Update Enumerate
Update Enumerate Production | 35,000 | 12 | 7,000
Update Enumerate Listing Quality Control | 3,500 | 5 | 292
Update Enumerate Reinterview | 1,750 | 10 | 292
Update Enumerate Subtotal | 40,250 |  | 7,584
Group Quarters (GQ)
Domestic Violence Shelter address collection | 57 | 20 | 19
GQ Advance Contact (facility) | 297,000 | 10 | 49,500
GQ Enumeration—eResponse (facility) | 14,300 | 20 | 4,767
GQ Enumeration—person contact | 8,000,000 | 5 | 666,667
Service-Based Enumeration | 800,000 | 5 | 66,667
Group Quarters Quality Control | 8,500 | 5 | 708
Domestic Violence Shelter Enumeration | * 0 |  | 0
Military Enumeration | * 0 |  | 0
Maritime and Military Vessel Enumeration | * 0 |  | 0
Group Quarters Subtotal | 9,119,857 |  | 788,328
Carnivals/Circuses address collection | 450 | 10 | 75
Hotels/Motels address collection | 55,000 | 10 | 9,167
Enumeration at Transitory Locations—Advance Contact | 50,000 | 10 | 8,333
Enumeration at Transitory Locations—Units | 600,000 | 10 | 100,000
Federally Affiliated Count Overseas | 82 | 5 | 7
Island Areas Censuses—Housing Units | 138,281 | 40 | 92,187
Island Areas Censuses—Group Quarters | 10,291 | 30 | 5,146
Totals | 193,426,318 |  | 28,984,001
* This burden is included in GQ enumeration—person contact.

Needs and Uses:

Article 1, Section 2 of the United States Constitution mandates that the U.S. House of Representatives be reapportioned every ten years by conducting an enumeration of all residents. In addition to the reapportionment of the U.S. Congress, Census data are used to draw legislative district boundaries within states. Census data are also used by numerous agencies to determine funding allocations for the distribution of an estimated $675 billion of federal funds each year.

The taking of a decennial census is mandated by Article 1, Section 2 of the U.S. Constitution. Title 13, United States Code (U.S.C), Section 141 directs the Secretary to take a decennial census of population and housing, determining its form and content, and further authorizes the collection of such other census information in relation to the decennial census, as necessary. These authorities are delegated to the Director of the Census Bureau under Department of Commerce Organization Order 35-2A. The Census Bureau is required to conduct the 2020 Census to collect the person and housing data that will be used for reapportionment, redistricting, and various statistical data products, under Title 13, U.S. Code. Additionally, the Census Bureau is authorized under Title 13 Section 193 to conduct surveys and collect information before, during, and after the decennial census to assist in the conduct of the decennial census.

Type of Enumeration Areas

Prior to the census, it is necessary to delineate all geographic areas into Type of Enumeration Areas (TEAs), which describe what methodology will be used for census material delivery and household enumeration in order to use the most cost-effective enumeration approach for achieving maximum accuracy and completeness. TEAs also describe what methodology will be used for updating the address frame. For the United States and Puerto Rico, TEAs are delineated at the block level based on the address and spatial data in the Census Bureau's Master Address File (MAF)/Topologically Integrated Geographic Encoding and Referencing system (TIGER) database.

The TEAs designated for the 2020 Census are:

* TEA 1 = Self-Response.

* TEA 2 = Update Enumerate.

* TEA 3 = Island Areas.

* TEA 4 = Remote Alaska.

* TEA 6 = Update Leave.

The most common enumeration method by percentage of households is self-response (TEA 1), where materials will be delivered to each address through the mail and self-response will be supported and promoted. Self-response can occur when households mail back a 2020 Census paper questionnaire, submit the data on the 2020 Census internet questionnaire, or call the telephone number for Census Questionnaire Assistance and submit the data during the phone call. After the initial self-response phase, nonresponding households in TEA 1 will be enumerated in the Nonresponse Followup (NRFU) operation. In Update Enumerate (TEA 2), Census Bureau enumerators visit an address, update the address list, and attempt household enumeration at the same time. This TEA will be used for a very small portion of the addresses in the country, such as those with access problems or minimal mail service. The Island Areas (TEA 3) are not currently included in MAF/TIGER. With no existing address list for these areas, the address list will be created and enumeration will be attempted at the same time. Remote Alaska (TEA 4) uses the Update Enumerate methodology but in remote areas of Alaska. These areas have unique challenges associated with the accessibility to communities where the population ranges from several hundred people to just a few people. Communities are widely scattered and rarely linked by roads. Most are accessible only by small-engine airplane, snowmobile, four-wheel-drive vehicles, dogsled, or some combination thereof. This operation occurs earlier than other enumeration operations (starting in January) due to seasonal availability of the population, who disperse when warmer weather arrives. During Update Leave (TEA 6), Census Bureau staff visit an address, update the address list, and leave a questionnaire package at each individual housing unit. The household is expected to return the questionnaire or submit their data online or by telephone. Puerto Rico is designated as entirely Update Leave in order to create a current address list at the time of the census, in response to changes that may have occurred due to recent natural disasters. Nonresponding units in Update Leave areas are included in the NRFU workload.

Prior Notices included a TEA 5 for Military areas. This planned procedure is no longer being included in the 2020 Census. Areas previously designated as TEA 5 have been redelineated into TEA 1 (Self-Response) or TEA 6 (Update Leave) areas, depending on data that resides within the MAF/TIGER database. This impacts the distribution of burden by TEA.

The final delineation into TEAs also includes updated counts of housing units within each TEA. These updated counts change the burden table from prior publications and increase the total burden. A map of the areas designated for the various TEAs is shown at the embedded link: TEA Viewer.

Group Quarters

Group quarters (GQ) are living quarters where people who are typically unrelated have group living arrangements and frequently are receiving some type of service. College/university student housing and nursing/skilled-nursing facilities are examples of GQs. Previous Notices have provided some background information but have not described fully the scope, flow of activities, collection instruments, burden estimates, and recent program updates for the GQ data collections and other special enumerations. For the sake of presenting a comprehensive picture these programs will be described in full in this Notice.

The 2020 Census Group Quarters operation will enumerate people living or staying in GQs and will provide an opportunity for people experiencing homelessness and receiving service at a service-based location, such as a soup kitchen, to be counted in the census. GQs are assigned different categories or type codes, and field procedures sometimes differ by categories or because of GQ facility privacy concerns. For example, procedures for colleges may differ from those for prisons or skilled nursing homes.

The 2020 Census GQ operation consists of the following components:

• GQ Frame Update.

• GQ Advance Contact.

• GQ Enumeration.

• Service-Based Enumeration.

• Military Enumeration.

• Maritime/Military Vessel (Shipboard) Enumeration.

GQ Frame Update

The 2020 Census GQ Frame Update program supports the 2020 Census enumeration frame development for the 2020 Census Group Quarters Enumeration. Building from the 2010 Census, the GQ frame incorporates updates from the 2020 Census Local Update of Census Addresses, Address Canvassing, and New Construction operations, as well as the Census Bureau's American Community Survey. Local Update of Census Addresses is described in Federal Register Notice “Local Update of Census Addresses Operation,” November 7, 2016, (Vol. 81, No. 215, pp 78109-78110, FR Doc. 2016-26778), while New Construction is described in Federal Register Notice “2020 Census New Construction Program,” October 5, 2018, (Vol. 83, No. 194, pp 50332-50334, FR Doc. 2018-21698). The Address Canvassing operation is part of the 2020 Census package and has been described in Federal Register Notice “2020 Census,” October 2, 2018, (Vol. 83 No. 181, pp 49535-49539, FR Doc. 21386).

In addition, the Count Review operation contributes addresses to the frame in advance of and during the census. The Count Review operation enhances the accuracy of the 2020 Census through remediating potential gaps in coverage by:

• Implementing an efficient and equitable process to identify and incorporate housing units that are missing from the Census Bureau's Master Address File (MAF).

• Identifying and including or correcting large group quarters, such as college/university student housing, that are missing from the MAF or geographically misallocated.

For this operation, Federal-State Cooperative for Population Estimates (FSCPE) representatives provide housing unit and GQ addresses from their state, and the state-submitted addresses are compared against the MAF. This operation does not create burden due to the relationship with FSCPE representatives under which these updates are provided. It is being described in this Notice in order to provide a complete picture of the frame development and enumeration activities for GQs.

There are two phases of review:

Phase 1

Housing Unit Review: Focuses on clusters (25+) of city-style addresses provided by states that are missing from the MAF.

GQ Review: Focuses on addresses provided by states for large GQs of particular types of GQs that are missing from or misallocated in the MAF.

Phase 2

Post-Enumeration GQ Review: After GQ enumeration is completed, the states will have the opportunity to review the enumeration status of GQs. For GQs that were not enumerated, FSCPE participants will have the opportunity to provide additional information to enable Late GQ Enumeration to revisit the GQ. FSCPEs will also have a final opportunity to add GQs that were not in the MAF but were operating on April 1, 2020.

GQ Advance Contact

The GQ Advance Contact has both in-office and in-field activities. The in-office GQ Advance Contact is an area census office activity through which Census Bureau staff call GQs identified in prior frame update phases to collect preferred contact dates, times, and methods of enumeration as well as expected population on Census Day. Census Bureau staff also discuss any special instructions from the GQ or concerns related to privacy, confidentiality, and security. For cases that staff are unable to contact or resolve during the in-office advance contact, field supervisors make an in-field visit to the GQs to collect this data.

GQ Enumeration

The GQ Enumeration covers all 50 states, the District of Columbia, and Puerto Rico. The GQ enumeration uses a variety of means to collect data in order to maximize efficiency. In-field enumeration methods are In-Person Interview, Facility Self-Enumeration, Drop Off/Pick Up of Questionnaires, and Paper Response Data collection. The first three in-field methods of enumeration provide people residing in GQs with the Individual Census Questionnaire as the paper data collection instrument. Paper Response Data collection refers to an administrator at the GQ providing to the enumerator a spreadsheet or roster with enumeration data for all occupants. This closely resembles the eResponse Data Transfer described below.

A follow-up to ensure quality of enumerations is conducted. Area census office management staff assign cases selected for reinterview to clerks. The clerks use a reinterview form for each case in their reinterview workload and telephone each GQ to confirm that the enumerator visited the correct facility at the correct address. The reinterview also determines if the enumerator obtained a population count within a pre-defined acceptable range of the count provided by the GQ contact during the reinterview.

Reinterview responses are then compared to the initial responses. If a response is satisfactory, no further work is required. If a response is unsatisfactory, management will conduct an investigation into the cause. Some outcomes may result in additional data collection. If errors occurred or if falsification by the enumerator occurred, the case may be sent out for rework. Also, if falsification occurred, all cases worked by that enumerator will be reinterviewed.

GQ Enumeration—eResponse Data Transfer

The GQ eResponse leverages electronic data transfers from GQ administrators to the Census Bureau. Client-level data from systems maintained by GQ administrators will be transferred to a standardized Census Bureau secured system that will accept electronically submitted data in a standardized template. These data will be accepted in lieu of the use of the Individual Census Questionnaires if the data are deemed to be of sufficiently high quality and completeness.

Domestic Violence Shelters

Domestic violence shelters are facilities for those seeking safety from domestic violence. Domestic violence shelters are enumerated using special procedures and specially trained personnel. These special procedures include inviting members of the National Coalition Against Domestic Violence state coalitions to participate in the 2020 Census Group Quarters Frame Update Program to create a comprehensive and current address listing for domestic violence shelters. In order to protect the integrity of these locations, it will be necessary to have individuals designated to be the recipient of this information and to personally implement the procedures. Due to the sensitive nature of these places, the Census Bureau has assured the service providers that we will not disclose name, address, or any other type of information about the facility or the persons staying there to anyone other than on a “need to know” basis. These special procedures are designed to protect the safety and security of respondents being enumerated at these locations.

Service-Based Enumeration

The Service-Based Enumeration is specifically designed to approach people using service facilities because they may be missed during the traditional enumeration at housing units and group quarters. These service locations and outdoor locations include the following:

• Shelters: Shelters with sleeping facilities for people experiencing homelessness; shelters for children who are runaways, neglected, or experiencing homelessness.

• Soup kitchens.

• Regularly scheduled mobile food vans: Stops where regularly scheduled mobile food vans distribute meals.

• Targeted non-sheltered outdoor locations.

For the 2020 Census, the Service-Based Enumeration operation will be conducted over the three-day period that ends on April 1, 2020, Census Day. Service providers for shelters, soup kitchens, and regularly scheduled mobile food vans will be given the flexibility for their facility to be enumerated on any one of the three days. Targeted non-sheltered outdoor locations will be enumerated April 1, 2020. Field partnership specialists with local knowledge will help to identify non-sheltered outdoor locations during the time of the census.

Military Enumeration

Military installations are fenced, secured areas used for military purposes that include living quarters such as housing units and GQs for military, civilian, and non-Department of Defense-affiliated personnel. Residents living in housing units on military installations will have the opportunity to respond to the census through the internet or by mail or telephone (just like residents who do not live on installations). The enumeration methodology at all military GQs (barracks, military treatment facilities with assigned patients, military disciplinary barracks and jails, and military vessels) will be implemented under the GQ operation. Residents living in GQs will be enumerated during the GQ enumeration, using the same set of enumeration options.

Maritime/Military Vessel Enumeration

A maritime vessel is defined as a United States-flagged vessel with people who live or stay aboard for extended periods of time and sail from or to a United States port. A military vessel is defined as a United States Navy or United States Coast Guard vessel assigned to a home port in the United States. Maritime and Military Vessel Enumeration is a mailout-mailback operation to enumerate people who live or stay aboard and will not have any other opportunity to respond in time to be included in the 2020 Census. The response burden for military installations and maritime and military vessels is included in the GQ enumeration count.

2020 Census Enumeration at Transitory Locations

The goal of the 2020 Census Enumeration at Transitory Locations (ETL) operation is to enumerate individuals in occupied units at transitory locations who do not have a Usual Home Elsewhere. A Transitory Location (TL) is a location that is composed of living quarters where people are unlikely to live year-round, due to the transitory/temporary/impermanent nature of these living quarters. TLs include recreational vehicle parks, campgrounds, racetracks, circuses, carnivals, marinas, and hotels.

The 2020 Census ETL operation consists of the following components:

• TL Frame Update.

• TL Advance Contact.

• Enumeration.

TL Frame Update

The 2020 Census TL Frame Update is being implemented to ensure that the 2020 Census enumeration frame is complete and to provide an opportunity for enumeration of people residing at transitory locations. Building from the 2010 Census, the TL frame incorporates updates from the Local Update of Census Addresses, Address Canvassing, and New Construction operations. The design of the program ensures that the 2020 Census enumeration frame is updated by using specialized procedures to update the addresses for the following types of locations:

• Carnival, circus, and fair locations.

• Hotels and motels.

Carnival and circus research is a telephone solicitation of carnival and circus operators. Scheduled dates and corresponding addresses for shows that will occur during ETL enumeration will be collected. In addition, hotel and motel research is a telephone solicitation of hotels/motels to inquire if a hotel or motel has any rooms occupied by people who live or stay there most of the time or if that hotel/motel is used entirely to house people experiencing homelessness.

TL Advance Contact

The TL Advance Contact has both in-office and in-field activities. The in-office TL Advance Contact is an area census office activity in which TLs identified in frame update steps are called on the telephone. Address verification, TL type, number of spaces or units at the TL, and other advance information to support the ETL operation in the field will be collected. For cases that staff are unable to contact or resolve during the in-office advance contact, field supervisors make an in-field visit to the GQs to collect this data.

TL Enumeration

The 2020 Census ETL operation will cover all 50 states, the District of Columbia, and Puerto Rico. Enumerators will canvass a transitory location in one visit to enumerate at occupied transitory units. Respondents at a transitory location who do not have a usual home elsewhere are counted where they are enumerated in ETL.

Evaluations and Experiments

The Census Bureau has not prepared a separate package for the Evaluations and Experiments program, as was done in past censuses. For the 2020 Census, these evaluations and experiments are described as either a revision to the 2020 Census package within this Notice, to the Census Bureau's 2020 Census Post-Enumeration Survey Independent Listing Operation (covered under OMB approval #0607-1009), or within the Generic Clearance for Census Bureau Field Tests and Evaluations (covered under OMB approval #0607-0971).

For the 2020 Census, operational assessments, quality profiles, evaluations, and experiments are all produced within the Evaluations and Experiments operation. Operational Assessments are designed to document final volumes, rates, and costs for individual operations or processes using data from production files and activities and information collected from debriefings and lessons learned. They do not include analysis. Operational assessments report out on planned versus actual variances as they relate to budget, schedule, and workloads (production and training) and on meeting performance success criteria. Depending on the operation, they may include frequency distributions and standard demographic or address tables. Quality profiles are designed to provide the results from the quality assurance program for an operation. No additional data collection is required for the purpose of creating the operational assessments or the quality profiles. They are described here for the purpose of providing the complete scope of the Evaluations and Experiments operation.

The evaluations and experiments performed during a census represent the initial plans for updating and improving the subsequent census. While testing continues throughout the decade, certain aspects can only be tested within a decennial census environment, as public awareness of the census and of the responsibility to respond is often a key factor of the test. Evaluations are designed to analyze, interpret, and synthesize the effectiveness and efficiencies of census components and their impact on data quality and coverage using data collected from census operations, processes, systems, and auxiliary data collections. Experiments provide quantitative or qualitative results for tests that occur during a decennial census. Since they occur in an environment of optimal census awareness, results simulate more closely to what experimental treatments would yield in a full production application. Experiments inform planning of future decennial censuses, so 2020 Census experiments will focus on planning toward a 2030 Census.

For the purposes of fully defining the Evaluations and Experiments operation, specific assessments, evaluations, and experiments planned for the 2020 Census are documented in the table below. Some evaluations and experiments shown in italics are described within other OMB approval packages, as noted in the footnotes to the table.

2020 Census Operational Assessments
Archiving Operational Assessment
Census Questionnaire Assistance Operational Assessment
Content and Forms Design Operational Assessment
Coverage Improvement Operational Assessment
Count Question Resolution Operational Assessment
Decennial Logistics Management—Logistics Management Support Operational Assessment
Decennial Logistics Management—Space Acquisition and Lease Management Operational Assessment
Decennial Service Center Operational Assessment
Demographic Analysis Operational Assessment
Enumeration at Transitory Locations Advance Contact Operational Assessment
Enumeration at Transitory Locations Operational Assessment
Evaluations and Experiments Operational Assessment
Federally Affiliated Count Overseas Operational Assessment
Field Infrastructure—Field Office Administration and Payroll Operational Assessment
Field Infrastructure—Recruiting, Onboarding, and Training Operational Assessment
Forms Printing and Distribution Operational Assessment
Geographic Partnership Programs Operational Assessment
Group Quarters Advance Contact Assessment Report
Group Quarters Enumeration and Military Enumerations Assessment
In-Field Address Canvassing Operational Assessment
In-Office Address Canvassing Operational Assessment
Internet Self-Response Operational Assessment
Integrated Partnership and Communications Contract Assessment
Integrated Partnership and Communications Operational Assessment
Island Areas Censuses Operational Assessment
Item Nonresponse Rates Assessment Study
Language Services Operational Assessment
Local Update of Census Addresses Operational Assessment
Maritime Vessel Enumeration Report
New Construction Operational Assessment
Non-ID Operational Assessment
Nonresponse Followup Operational Assessment
Paper Data Capture Operational Assessment
Post-Enumeration Survey Sampling and Estimation Operational Assessment
Post-Enumeration Survey Field Operations Initial Listing and Initial Housing Unit Followup Operational Assessment
Post-Enumeration Survey Field Operations Person Interview and Person Followup Operational Assessment
Post-Enumeration Survey Field Operations Final Housing Unit Followup Operational Assessment
Post-Enumeration Survey Matching Initial Housing Unit Matching Operational Assessment
Post-Enumeration Survey Matching Person Matching Operational Assessment
Post-Enumeration Survey Matching Final Housing Unit Matching Operational Assessment
Redistricting Data Program Operational Assessment
Research to Support the Integrated Partnership and Communications Program
Response Processing Operational Assessment
Response Rates Assessment Study
Self-Response Quality Assurance Operational Assessment
Service-Based Enumeration Assessment Report
Systems and Applications in the 2020 Census (Security, Privacy, and Confidentiality)
Update Enumerate Operational Assessment
Update Leave Operational Assessment
2020 Census Quality Control (QC)
Quality Control Study Plan for Listing Operations
Quality Control Study Plan for Enumeration Operations
Address Canvassing QC Results
Update Leave QC Results
Nonresponse Followup QC Results
Person Interview QC Results
Independent Listing QC Results

2020 Census evaluations and experiments | Additional data collected
Evaluations
Reengineered Address Canvassing | Salted and suppressed addresses within Address Canvassing: Same burden estimate because listers should delete incorrect addresses (which does not involve contact) and add missing addresses (which is the same burden as for valid addresses).
• Estimate certain types of errors that can occur during In-Field Address Canvassing. Investigate effectiveness of In-Office Address Canvassing and Interactive Review. Compare costs of reengineered Address Canvassing to 100 percent In-Field Address Canvassing.
• Evaluate In-Field Address Canvassing listers by including false addresses (salting) and suppressing a sample of valid addresses.
• Evaluate In-Office and In-Field Address Canvassing using Post-Enumeration Survey listing results ¹.
Administrative Record Dual-System Estimation Determine whether dual system estimates could be generated without conducting an independent post-enumeration survey, using Administrative Records | None.
Evaluating Privacy and Confidentiality Concerns of Complete and Partial Respondents by Mode ² Capture respondents' concerns about privacy and confidentiality during the census, particularly with respect to the internet response option and administrative records use in a census environment | NA.
The Undercount of Young Children: A Qualitative Evaluation of Census Materials and Operations ² Conduct focus groups and cognitive interviews to identify where existing roster questions and procedures are failing and how to improve them | NA.
Research on Hard to Count Populations: Non-English Speakers and Complex Household Residents, including Undercount of Children Research ² Assess NRFU interviews in areas associated with potential undercoverage and non-English speaking households. In addition, administer a specialized enumerator training module to a sample of Spanish-speaking bilingual enumerators to evaluate its impact | NA.
Analysis of Census Internet Self-Response Paradata by Language Examine 2020 Census web paradata and assess by language | None.
Group Quarters Advance Contact: Refining Classification of College or University Student Housing ² Explore whether refined classification used in the 2020 Census results in more accurately identifying privately owned college housing | NA.
Experiments
Extending the Census Environment to the Mailing Materials Test effect on self-response rates of wearable, nonmonetary mailing inserts that promote the 2020 Census as well as mailing materials that incorporate elements and images developed by the 2020 Census communications campaign. In addition, test the use of an every door direct mail piece | None.
Optimization of Self-Response in the 2020 Census Experiment Evaluate impacts of the mailing strategy and the influence of the internet response option by (1) mailing a sample of housing units a modified version of 2010 Census materials with no promotion of the internet response option on a schedule that resembles what occurred during the 2010 Census, (2) mailing another sample of housing units a modified version of the 2020 Census materials with no promotion of the internet response option, (3) switching the planned mail contact strategy between internet choice and internet first for another sample of housing units. In addition, test the effectiveness of communications and partnership activities by not mailing and 2020 Census materials to a sample of households | None.
Real-Time 2020 Census Administrative Record Census Simulation Compare person-level, housing unit-level, and hybrid approaches to conducting an administrative record census | None.
¹ 2020 Census Post-Enumeration Survey Independent Listing Operation (OMB approval #0607-1009).
² Generic Clearance for Census Bureau Field Tests and Evaluations (OMB approval #0607-0971).

Affected Public: Individuals or Households.

Frequency: Once every 10 years.

Respondent's Obligation: Mandatory.

Legal Authority: Title 13, United States Code, Section 141 and 193.

This information collection request may be viewed at www.reginfo.gov. Follow the instructions to view Department of Commerce collections currently under review by OMB.

Written comments and recommendations for the proposed information collection, identified by Docket number OMB-2018-0004, may be submitted to the Federal e-Rulemaking portal: https://www.regulations.gov within 30 days of publication of this notice. All comments received are part of the public record and will be posted to http://www.regulations.gov for public viewing. Comments will generally be posted without change. All Personally Identifiable Information (for example, name and address) voluntarily submitted by the commenter may be publicly accessible. Do not submit Confidential Business Information or otherwise sensitive or protected information. You may submit attachments to electronic comments in Microsoft Word, Excel, WordPerfect, or Adobe PDF file formats only.

Sheleen Dumas,
Departmental Lead PRA Officer, Office of the Chief Information Officer, Commerce Department.

[FR Doc. 2019-19312 Filed 9-6-19; 8:45 am]

BILLING CODE 3510-07-P